DEPARTMENT OF TRANSPORTATION

Surface Transportation Board

[Docket No. FD 35697]

Buckeye Hammond Railroad, L.L.C.; Acquisition and Operation Exemption; Buckeye Partners, L.P.

Buckeye Hammond Railroad, L.L.C. (BHRR), a noncarrier, has filed a verified notice of exemption under 49 CFR 1150.31 ¹ to acquire from Buckeye Partners, L.P., a noncarrier, and to operate approximately 6,797 feet (1.29 miles) of track,² existing railroad right-of-way, and bulk liquid transloading facilities in Hammond, Ind. BHRR will interchange traffic with the Indiana Harbor Belt Railroad Company.

¹ The notice was initially filed on December 6, 2012, but it did not meet the Board's regulatory requirements. BHRR filed supplements on December 17 and 18, 2012. Because the notice was not complete until the December 18 filing, that date will be considered the actual filing date.

² Applicant states that the track does not have designated mileposts.

The transaction may be consummated on or after January 17, 2013 (30 days after the notice of exemption was filed).

BHRR certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than January 10, 2013 (at least seven days before the exemption becomes effective).

An original and 10 copies of all pleadings, referring to Docket No. FD 35697, must be filed with the Surface Transportation Board, 395 E Street SW., Washington, DC 20423-0001. In addition, a copy of each pleading must be served on David C. Dillon, 111 West Washington Street, Suite 1023, Chicago, IL 60602.

Board decisions and notices are available on our Web site at www.stb.dot.gov.

Decided: December 26, 2012.
By the Board, Rachel D. Campbell, Director, Office of Proceedings.
Jeffrey Herzig,
Clearance Clerk.

[FR Doc. 2012-31439 Filed 1-2-13; 8:45 am]

BILLING CODE 4915-01-P